DEPARTMENT OF DEFENSE

Department of the Army

Appointment to the Board of Directors of the Army West Point Athletic Association

AGENCY: Department of the Army, DOD.

ACTION: Notice of designation as an entity for which DOD personnel may participate in management activities.

SUMMARY: The Department of the Army is publishing this notice to announce that the DOD Office of General Counsel has designated the Army West Point Athletic Association is an entity for which DOD personnel may participate in management activities.

FOR FURTHER INFORMATION CONTACT: Ms. Lori L. Doughty, Academy Counsel, in writing at Office of the Staff Judge Advocate, ATTN: Ms. Lori L. Doughty, 646 Swift Road, West Point, NY 10996; by email at lori.doughty@westpoint.edu; or by telephone at 845-938-3205.

SUPPLEMENTARY INFORMATION: The Army West Point Athletic Association (AWPAA) is the 501(c)(3) corporation organized under the provisions of Title 10, United States Code, section 7462 to execute the U.S. Military Academy's intercollegiate athletics mission. The AWPAA is governed by a board of directors (BOD), which is responsible for the day-to-day operations of the AWPAA as well as the general corporate responsibilities of the organization. Of the minimum of seven BOD positions made available under its bylaws, three are reserved for members of the Armed Forces. The purpose of Armed Forces membership on the AWPAA BOD is to provide oversight and advice to, and coordination with AWPAA, but will not extend to the day-to-day operations of the AWPAA.

James W. Satterwhite, Jr.,
Army Federal Register Liaison Officer.

[FR Doc. 2022-00762 Filed 1-14-22; 8:45 am]

BILLING CODE 5001-03-P